DEPARTMENT OF HOMELAND SECURITY

Federal Emergency Management Agency

44 CFR Part 64

[Docket ID FEMA-2017-0002; Internal Agency Docket No. FEMA-8509]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date. Also, information identifying the current participation status of a community can be obtained from FEMA's Community Status Book (CSB). The CSB is available at https://www.fema.gov/national-flood-insurance-program-community-status-book.

DATES: Effective Dates: The effective date of each community's scheduled suspension is the third date (“Susp.”) listed in the third column of the following tables.

FOR FURTHER INFORMATION CONTACT: If you want to determine whether a particular community was suspended on the suspension date or for further information, contact Adrienne L. Sheldon, PE, CFM, Federal Insurance and Mitigation Administration, Federal Emergency Management Agency, 400 C Street SW., Washington, DC 20472, (202) 212-3966.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. FEMA has determined that the community suspension(s) included in this rule is a non-discretionary action and therefore the National Environmental Policy Act of 1969 (42 U.S.C. 4321 et seq.) does not apply.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

Table 3—Distance to Relevant Underwater Sound Tresholds and Areas of Ensonification
State and location | Community No. | Effective date authorization/cancellation of sale of flood insurance in community | Current effective map date | Date certain Federal assistance no longer available in SFHAs
Region II
New Jersey:
Beverly, City of, Burlington County | 340086 | February 7, 1975, Emerg; December 23, 1977, Reg; December 21, 2017, Susp. | Dec. 21, 2017 | Dec. 21, 2017.
Bordentown, City of, Burlington County | 340087 | May 16, 1975, Emerg; February 17, 1982, Reg; December 21, 2017, Susp. | ......do * | Do.
Bordentown, Township of, Burlington County | 340088 | August 8, 1975, Emerg; April 15, 1982, Reg; December 21, 2017, Susp. | ......do | Do.
Burlington, Township of, Burlington County | 340090 | July 29, 1975, Emerg; February 17, 1982, Reg; December 21, 2017, Susp. | ......do | Do.
Chesterfield, Township of, Burlington County | 340091 | June 13, 1975, Emerg; January 21, 1983, Reg; December 21, 2017, Susp. | ......do | Do.
Cinnaminson, Township of, Burlington County | 340092 | November 19, 1971, Emerg; May 15, 1978, Reg; December 21, 2017, Susp. | ......do | Do.
Delanco, Township of, Burlington County | 340093 | June 27, 1975, Emerg; September 28, 1979, Reg; December 21, 2017, Susp. | ......do | Do.
Delran, Township of, Burlington County | 340094 | March 24, 1972, Emerg; May 2, 1977, Reg; December 21, 2017, Susp. | ......do | Do.
Eastampton, Township of, Burlington County | 340095 | March 24, 1972, Emerg; September 14, 1979, Reg; December 21, 2017, Susp. | ......do | Do.
Edgewater Park, Township of, Burlington County | 340096 | December 10, 1974, Emerg; May 25, 1978, Reg; December 21, 2017, Susp. | ......do | Do.
Florence, Township of, Burlington County | 340098 | September 5, 1975, Emerg; March 1, 1982, Reg; December 21, 2017, Susp. | ......do | Do.
Hainesport, Township of, Burlington County | 340099 | June 20, 1975, Emerg; July 16, 1979, Reg; December 21, 2017, Susp. | ......do | Do.
Maple Shade, Township of, Burlington County | 340101 | July 11, 1975, Emerg; December 18, 1979, Reg; December 21, 2017, Susp. | ......do | Do.
Medford, Township of, Burlington County | 340104 | June 22, 1973, Emerg; August 15, 1983, Reg; December 21, 2017, Susp. | ......do | Do.
Medford Lakes, Borough of, Burlington County | 340103 | January 3, 1975, Emerg; June 1, 1981, Reg; December 21, 2017, Susp. | ......do | Do.
Moorestown, Township of, Burlington County | 340105 | February 11, 1972, Emerg; September 15, 1978, Reg; December 21, 2017, Susp. | ......do | Do.
Mount Holly, Township of, Burlington County | 340106 | March 17, 1972, Emerg; August 1, 1979, Reg; December 21, 2017, Susp. | ......do | Do.
Mount Laurel, Township of, Burlington County | 340107 | February 18, 1972, Emerg; March 2, 1981, Reg; December 21, 2017, Susp. | ......do | Do.
New Hanover, Township of, Burlington County | 340108 | July 29, 1975, Emerg; May 11, 1979, Reg; December 21, 2017, Susp. | ......do | Do.
Riverton, Borough of, Burlington County | 340114 | March 31, 1972, Emerg; April 15, 1977, Reg; December 21, 2017, Susp. | ......do | Do.
Shamong, Township of, Burlington County | 340534 | March 28, 1975, Emerg; June 15, 1979, Reg; December 21, 2017, Susp. | ......do | Do.
Southampton, Township of, Burlington County | 340115 | January 14, 1972, Emerg; March 4, 1980, Reg; December 21, 2017, Susp. | ......do | Do.
Springfield, Township of, Burlington County | 340116 | August 16, 1976, Emerg; January 28, 1983, Reg; December 21, 2017, Susp. | ......do | Do.
Washington, Township of, Burlington County | 340117 | April 14, 1975, Emerg; December 15, 1981, Reg; December 21, 2017, Susp. | ......do | Do.
Willingboro, Township of, Burlington County | 340119 | September 15, 1972, Emerg; July 2, 1979, Reg; December 21, 2017, Susp. | ......do | Do.
Woodland, Township of, Burlington County | 340551 | February 19, 1976, Emerg; January 20, 1982, Reg; December 21, 2017, Susp. | ......do | Do.
Wrightstown, Borough of, Burlington County | 340120 | December 16, 1975, Emerg; May 11, 1979, Reg; December 21, 2017, Susp. | ......do | Do.
Region IV
Georgia:
Camden County, Unincorporated Areas | 130262 | January 20, 1976, Emerg; June 1, 1984, Reg; December 21, 2017, Susp. | ......do | Do.
Effingham County, Unincorporated Areas | 130076 | November 28, 1975, Emerg; March 18, 1987, Reg; December 21, 2017, Susp. | ......do | Do.
Kingsland, City of, Camden County | 130238 | June 23, 1975, Emerg; June 1, 1984, Reg; December 21, 2017, Susp. | ......do | Do.
Rincon, City of, Effingham County | 130426 | November 5, 1976, Emerg; February 19, 1987, Reg; December 21, 2017, Susp. | ......do | Do.
Saint Marys, City of, Camden County | 130027 | May 30, 1974, Emerg; June 1, 1984, Reg; December 21, 2017, Susp. | ......do | Do.
Woodbine, City of, Camden County | 130241 | August 7, 1975, Emerg; June 1, 1984, Reg; December 21, 2017, Susp. | ......do | Do.
Kentucky:
Anderson County, Unincorporated Areas | 210002 | November 10, 1975, Emerg; May 15, 1986, Reg; December 21, 2017, Susp. | ......do | Do.
Berea, City of, Madison County | 210156 | April 22, 1975, Emerg; September 30, 1988, Reg; December 21, 2017, Susp. | ......do | Do.
Carroll County, Unincorporated Areas | 210045 | March 26, 1997, Emerg; September 1, 1998, Reg; December 21, 2017, Susp. | ......do | Do.
Carrollton, City of, Carroll County | 210232 | March 20, 1975, Emerg; September 4, 1985, Reg; December 21, 2017, Susp. | ......do | Do.
Clark County, Unincorporated Areas | 210278 | May 13, 1976, Emerg; December 4, 1986, Reg; December 21, 2017, Susp. | ......do | Do.
Frankfort, City of, Franklin County | 210075 | April 23, 1974, Emerg; July 2, 1981, Reg; December 21, 2017, Susp. | ......do | Do.
Franklin County, Unincorporated Areas | 210280 | January 23, 1976, Emerg; September 30, 1981, Reg; December 21, 2017, Susp. | ......do | Do.
Garrard County, Unincorporated Areas | 210081 | February 27, 1987, Emerg; September 1, 1989, Reg; December 21, 2017, Susp. | ......do | Do.
Georgetown, City of, Scott County | 210208 | June 25, 1975, Emerg; February 4, 1981, Reg; December 21, 2017, Susp. | ......do | Do.
Gratz, City of, Owen County | 210321 | June 18, 1976, Emerg; August 19, 1986, Reg; December 21, 2017, Susp. | ......do | Do.
Henry County, Unincorporated Areas | 210110 | December 20, 1978, Emerg; January 1, 1986, Reg; December 21, 2017, Susp. | ......do | Do.
Jessamine County, Unincorporated Areas | 210125 | April 16, 1973, Emerg; August 1, 1978, Reg; December 21, 2017, Susp. | ......do | Do.
Lawrenceburg, City of, Anderson County | 210003 | August 21, 1975, Emerg; December 14, 1979, Reg; December 21, 2017, Susp. | ......do | Do.
Lexington-Fayette Urban County Government, Fayette County | 210067 | August 17, 1973, Emerg; September 28, 1979, Reg; December 21, 2017, Susp. | ......do | Do.
Madison County, Unincorporated Areas | 210342 | September 19, 1989, Emerg; September 28, 1990, Reg; December 21, 2017, Susp. | ......do | Do.
Mercer County, Unincorporated Areas | 210306 | November 22, 1974, Emerg; October 18, 1988, Reg; December 21, 2017, Susp. | ......do | Do.
Midway, City of, Woodford County | 210477 | N/A, Emerg; September 17, 2008, Reg; December 21, 2017, Susp. | ......do | Do.
Monterey, City of, Owen County | 210295 | April 20, 1976, Emerg; August 5, 1986, Reg; December 21, 2017, Susp. | ......do | Do.
Nicholasville, City of, Jessamine County | 210126 | June 11, 1975, Emerg; April 17, 1989, Reg; December 21, 2017, Susp. | ......do | Do.
Owen County, Unincorporated Areas | 210186 | May 2, 1997, Emerg; July 1, 1999, Reg; December 21, 2017, Susp. | ......do | Do.
Prestonville, City of, Carroll County | 210047 | August 2, 1976, Emerg; September 18, 1986, Reg; December 21, 2017, Susp. | ......do | Do.
Richmond, City of, Madison County | 210157 | June 20, 1975, Emerg; September 18, 1985, Reg; December 21, 2017, Susp. | ......do | Do.
Scott County, Unincorporated Areas | 210207 | August 14, 1975, Emerg; September 30, 1981, Reg; December 21, 2017, Susp. | ......do | Do.
Versailles, City of, Woodford County | 210231 | April 21, 1989, Emerg; May 1, 1990, Reg; December 21, 2017, Susp. | ......do | Do.
Wilmore, City of, Jessamine County | 210311 | January 17, 1975, Emerg; November 5, 1986, Reg; December 21, 2017, Susp. | ......do | Do.
Woodford County, Unincorporated Areas | 210230 | March 30, 1973, Emerg; June 1, 1978, Reg; December 21, 2017, Susp. | ......do | Do.
Worthville, City of, Carroll County | 210049 | May 24, 1976, Emerg; July 17, 1986, Reg; December 21, 2017, Susp. | ......do | Do.
Mississippi:
Biloxi, City of, Harrison County | 285252 | June 30, 1970, Emerg; September 11, 1970, Reg; December 21, 2017, Susp. | ......do | Do.
Gautier, City of, Jackson County | 280332 | November 13, 1986, Emerg; November 13, 1986, Reg; December 21, 2017, Susp. | ......do | Do.
Gulfport, City of, Harrison County | 285253 | May 29, 1970, Emerg; September 11, 1970, Reg; December 21, 2017, Susp. | ......do | Do.
Harrison County, Unincorporated Areas | 285255 | July 17, 1970, Emerg; June 15, 1978, Reg; December 21, 2017, Susp. | ......do | Do.
Jackson County, Unincorporated Areas | 285256 | June 30, 1970, Emerg; April 3, 1978, Reg; December 21, 2017, Susp. | ......do | Do.
South Carolina:
Anderson, City of, Anderson County | 450014 | November 2, 1973, Emerg; December 16, 1980, Reg; December 21, 2017, Susp. | ......do | Do.
Anderson County, Unincorporated Areas | 450013 | July 2, 1975, Emerg; January 2, 1981, Reg; December 21, 2017, Susp. | ......do | Do.
Arcadia Lakes, Town of, Richland County | 450171 | May 27, 1975, Emerg; November 19, 1980, Reg; December 21, 2017, Susp. | ......do | Do.
Blythewood, Town of, Fairfield and Richland Counties | 450258 | N/A, Emerg; November 30, 2011, Reg; December 21, 2017, Susp. | ......do | Do.
Cayce, City of, Lexington and Richland Counties | 450131 | February 5, 1974, Emerg; May 1, 1980, Reg; December 21, 2017, Susp. | ......do | Do.
Clemson, City of, Anderson and Pickens Counties | 450238 | September 22, 1980, Emerg; February 17, 1988, Reg; December 21, 2017, Susp. | ......do | Do.
Colleton County, Unincorporated Areas | 450056 | June 18, 1975, Emerg; April 17, 1987, Reg; December 21, 2017, Susp. | ......do | Do.
Columbia, City of, Lexington and Richland Counties | 450172 | January 16, 1974, Emerg; September 2, 1981, Reg; December 21, 2017, Susp. | ......do | Do.
Cottageville, Town of, Colleton County | 450253 | N/A, Emerg; July 10, 2012, Reg; December 21, 2017, Susp. | ......do | Do.
Eastover, Town of, Richland County | 450173 | June 26, 1975, Emerg; September 30, 1988, Reg; December 21, 2017, Susp. | ......do | Do.
Edisto Beach, Town of, Colleton County | 455414 | March 19, 1971, Emerg; April 9, 1971, Reg; December 21, 2017, Susp. | ......do | Do.
Forest Acres, City of, Richland County | 450174 | July 19, 1974, Emerg; November 5, 1980, Reg; December 21, 2017, Susp. | ......do | Do.
Pickens, City of, Pickens County | 450169 | October 7, 1974, Emerg; June 25, 1976, Reg; December 21, 2017, Susp. | ......do | Do.
Pickens County, Unincorporated Areas | 450166 | April 2, 1974, Emerg; July 19, 1982, Reg; December 21, 2017, Susp. | ......do | Do.
Pendleton, Town of, Anderson County | 450019 | October 7, 1975, Emerg; May 15, 1980, Reg; December 21, 2017, Susp. | ......do | Do.
Richland County, Unincorporated Areas | 450170 | September 20, 1974, Emerg; November 4, 1981, Reg; December 21, 2017, Susp. | ......do | Do.
Seneca, City of, Oconee County | 450158 | July 24, 1975, Emerg; December 16, 1977, Reg; December 21, 2017, Susp. | ......do | Do.
Six Mile, Town of, Pickens County | 450178 | N/A, Emerg; May 8, 2008, Reg; December 21, 2017, Susp. | ......do | Do.
Walhalla, City of, Oconee County | 450159 | May 2, 1975, Emerg; June 17, 1986, Reg; December 21, 2017, Susp. | ......do | Do.
Walterboro, City of, Colleton County | 450058 | April 2, 1975, Emerg; April 17, 1987, Reg; December 21, 2017, Susp. | ......do | Do.
Williams, Town of, Colleton County | 450059 | February 3, 1976, Emerg; July 17, 1986, Reg; December 21, 2017, Susp. | ......do | Do.
Region VI
Louisiana: Saint Bernard Parish, Unincorporated Areas | 225204 | March 12, 1970, Emerg; March 13, 1970, Reg; December 21, 2017, Susp. | ......do | Do.
Texas:
Bowie County, Unincorporated Areas | 481194 | February 17, 1981, Emerg; September 27, 1991, Reg; December 21, 2017, Susp. | ......do | Do.
Fort Bend County, Unincorporated Areas | 480228 | March 19, 1987, Emerg; March 19, 1987, Reg; December 21, 2017, Susp. | ......do | Do.
Kendleton, City of, Fort Bend County | 481551 | N/A, Emerg; September 15, 2001, Reg; December 21, 2017, Susp. | ......do | Do.
Leary, City of, Bowie County | 481142 | May 28, 2010, Emerg; October 19, 2010, Reg; December 21, 2017, Susp. | ......do | Do.
Nash, City of, Bowie County | 480058 | April 7, 1975, Emerg; June 21, 1977, Reg; December 21, 2017, Susp. | ......do | Do.
Rosenberg, City of, Fort Bend County | 480232 | July 21, 1975, Emerg; December 4, 1984, Reg; December 21, 2017, Susp. | ......do | Do.
Texarkana, City of, Bowie County | 480060 | February 18, 1972, Emerg; March 1, 1979, Reg; December 21, 2017, Susp. | ......do | Do.
Wake Village, City of, Bowie County | 480061 | September 24, 1974, Emerg; October 15, 1985, Reg; December 21, 2017, Susp. | ......do | Do.
......do =Ditto.
Code for reading third column: Emerg.—Emergency; Reg.—Regular; Susp.—Suspension.

Dated: November 22, 2017.
Eric Letvin,
Deputy Assistant Administrator for Mitigation, Federal Insurance and Mitigation Administration, Department of Homeland Security, Federal Emergency Management Agency.

[FR Doc. 2017-26328 Filed 12-6-17; 8:45 am]

BILLING CODE 9110-12-P